DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of March 21, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Blount County, Alabama and Incorporated Areas
Docket No.: FEMA-B-1749
City of Oneonta | City Hall, 202 3rd Avenue East, Oneonta, AL 35121.
Town of Altoona | Town Hall, 2844 Main Street, Altoona, AL 35952.
Town of Cleveland | Town Hall, 62732 U.S. Highway 231, Cleveland, AL 35049.
Town of Highland Lake | Town Hall, 612 Lakeshore Drive, Highland Lake, AL 35121.
Town of Locust Fork | Town Hall, 34 Town Hall Road, Locust Fork, AL 35097.
Town of Nectar | Nectar Town Hall, 14795 State Highway 160, Cleveland, AL 35049.
Town of Rosa | Rosa Town Hall, 35 Waterton Drive, Oneonta, AL 35121.
Town of Snead | Town Hall, 87169 U.S. Highway 278, Snead, AL 35952.
Town of Susan Moore | Susan Moore Town Hall, 39989 State Highway 75, Altoona, AL 35952.
Unincorporated Areas of Blount County | Blount County Engineering Department, 6454 2nd Avenue West, Oneonta, AL 35121.
Etowah County, Alabama and Incorporated Areas
Docket No.: FEMA-B-1749
Town of Altoona | Town Hall, 2844 Main Street, Altoona, AL 35952.
Town of Walnut Grove | Town Hall, 4012 Gadsden Blountsville Road, Walnut Grove, AL 35990.
Unincorporated Areas of Etowah County | Etowah County Engineer's Office, 402 Tuscaloosa Avenue, Gadsden, AL 35901.
Jefferson County, Alabama and Incorporated Areas
Docket No.: FEMA-B-1749
City of Adamsville | City Hall, 4828 Main Street, Adamsville, AL 35005.
City of Birmingham | Department of Planning, Engineering, and Permits, 710 North 20th Street, 5th Floor, Birmingham, AL 35203.
City of Clay | Clay City Hall, 2441 Old Springville Road, Birmingham, AL 35215.
City of Fultondale | Business License, Permit, and Inspections Department, 1015 Old Walker Chapel Road, Fultondale, AL 35068.
City of Gardendale | Inspections Services Department, 925 Main Street, Gardendale, AL 35071.
City of Graysville | City Hall, 246 South Main Street, Graysville, AL 35073.
City of Kimberly | City Hall, 9256 Stouts Road, Kimberly, AL 35091.
City of Pinson | City Hall, 4410 Main Street, Pinson, AL 35126.
City of Sumiton | City Hall, 416 State Street, Sumiton, AL 35148.
City of Tarrant | City Hall, 1604 Pinson Valley Parkway, Tarrant, AL 35217.
City of Warrior | City Hall, 215 Main Street North, Warrior, AL 35180.
Town of Brookside | Town Hall, 2711 Municipal Lane, Brookside, AL 35036.
Town of Cardiff | Jefferson County Land Development Office, 716 Richard Arrington Jr. Boulevard North, Room 260, Birmingham, AL 35203.
Town of Maytown | Maytown Town Hall, 4509 Town Hall Drive, Mulga, AL 35118.
Town of Morris | Town Hall, 8304 Stouts Road, Morris, AL 35116.
Town of Mulga | Town Hall, 505 Mulga Loop Road, Mulga, AL 35118.
Town of Sylvan Springs | Town Hall, 100 Rock Creek Road, Sylvan Springs, AL 35118.
Town of Trafford | Town Hall, 9239 East Commercial Avenue, Trafford, AL 35172.
Town of West Jefferson | West Jefferson Town Hall, 7000 West Jefferson Road, Quinton, AL 35130.
Unincorporated Areas of Jefferson County | Jefferson County Land Development Office, 716 Richard Arrington Jr. Boulevard North, Room 260, Birmingham, AL 35203.
Marshall County, Alabama and Incorporated Areas
Docket No.: FEMA-B-1749
City of Albertville | City Hall, 116 West Main Street, Albertville, AL 35950.
City of Boaz | City Hall, 112 North Broad Street, Boaz, AL 35957.
Town of Douglas | Town Hall, 55 Alabama Highway 168, Douglas, AL 35964.
Unincorporated Areas of Marshall County | Marshall County Engineering Department, 424 Blount Avenue, Suite A337, Guntersville, AL 35976.
Conway County, Arkansas and Incorporated Areas
Docket No.: FEMA-B-1763
City of Morrilton | City Hall, 119 North Division Street, Morrilton, AR 72110.
City of Oppelo | City Hall, 8 Municipal Drive, Oppelo, AR 72110.
City of Plumerville | City Hall, 303 West Main Street, Plumerville, AR 72127.
Town of Menifee | Town Hall, 68 North Mustang Street, Menifee, AR 72107.
Unincorporated Areas of Conway County | Conway County Courthouse, 117 South Moose Street, Morrilton, AR 72110.
Faulkner County, Arkansas and Incorporated Areas
Docket No.: FEMA-B-1763
City of Conway | Street and Engineering Department, 100 East Robins Street, Conway, AR 72032.
Unincorporated Areas of Faulkner County | Faulkner County Office of Emergency Management, 57 Acklin Gap Road, Conway, AR 72032.
Lonoke County, Arkansas and Incorporated Areas
Docket No.: FEMA-B-1741
City of Cabot | City Hall, 101 North 2nd Street, Cabot, AR 72023.
Unincorporated Areas of Lonoke County | Lonoke County Courthouse Annex, 210 North Center Street, Lonoke, AR 72086.
Pope County, Arkansas and Incorporated Areas
Docket No.: FEMA-B-1763
City of Atkins | Pope County Conservation District, 420 North Hampton Avenue, Suite B, Russellville, AR 72802.
Unincorporated Areas of Pope County | Pope County Conservation District, 420 North Hampton Avenue, Suite B, Russellville, AR 72802.
Orange County, California and Incorporated Areas
Docket No.: FEMA-B-1673
City of Costa Mesa | City Hall, 77 Fair Drive, Costa Mesa, CA 92626.
City of Dana Point | City Hall, 33282 Golden Lantern Street, Dana Point, CA 92629.
City of Fountain Valley | City Hall, 10200 Slater Avenue, Fountain Valley, CA 92708.
City of Huntington Beach | City Hall, 2000 Main Street, Huntington Beach, CA 92648.
City of Irvine | City Hall, 1 Civic Center Plaza, Irvine, CA 92606.
City of Laguna Beach | City Hall, 505 Forest Avenue, Laguna Beach, CA 92651.
City of Laguna Niguel | City Hall, 30111 Crown Valley Parkway, Laguna Niguel, CA 92677.
City of Newport Beach | City Hall, 100 Civic Center Drive, Newport Beach, CA 92660.
City of San Clemente | City Hall, 100 Avenida Presidio, San Clemente, CA 92672.
City of San Juan Capistrano | City Hall, 32400 Paseo Adelanto, San Juan Capistrano, CA 92675.
City of Seal Beach | City Hall, 211 8th Street, Seal Beach, CA 90740.
City of Westminster | City Hall, 8200 Westminster Boulevard, Westminster, CA 92683.
Unincorporated Areas of Orange County | Orange County Flood Control Division, 300 North Flower Street, Santa Ana, CA 92703.
Dallas County, Texas and Incorporated Areas
Docket No.: FEMA-B-1701
City of Dallas | Trinity Watershed Management, Flood Plain and Drainage Management, 320 East Jefferson Boulevard, Room 307 Dallas, TX 75203.
City of Grand Prairie | City Development Center, 206 West Church Street, Grand Prairie, TX 75050.
City of Irving | Capital Improvement Program Department, 825 West Irving Boulevard, Irving, TX 75060.
Unincorporated Areas of Dallas County | Dallas County Public Works Department, 411 Elm Street, 4th Floor, Dallas, TX 75202.
Tarrant County, Texas and Incorporated Areas
Docket Nos.: FEMA B-1282 and FEMA-B-1701
City of Arlington | City Hall, 101 West Abram Street, Arlington, TX 76010.
City of Fort Worth | Department of Transportation and Public Works, 200 Texas Street, Fort Worth, TX 76102.
City of Grand Prairie | Community Development Center, 206 West Church Street, Grand Prairie, TX 75050.
City of Haltom City | City Hall, 5024 Broadway Avenue, Haltom City, TX 76117.
City of Hurst | City Hall, 1505 Precinct Line Road, Hurst, TX 76054.
City of North Richland Hills | City Hall 4301 City Point Drive, North Richland Hills, TX 76180.
City of Richland Hills | City Hall, 3200 Diana Drive, Richland Hills, TX 76118.
City of Saginaw | City Hall, 333 West McLeroy Boulevard, Saginaw, TX 76179.
Town of Edgecliff Village | Municipal Complex, 1605 Edgecliff Road, Edgecliff Village, TX 76134.
Unincorporated Areas of Tarrant County | Tarrant County Transportation Department, Engineering, 100 East Weatherford Street, Suite 401, Fort Worth, TX 76196.

[FR Doc. 2019-03377 Filed 2-26-19; 8:45 am]

BILLING CODE 9110-12-P